DEPARTMENT OF THE INTERIOR

Bureau of Land Management

[AA-6647-B, AA-6647-C, AA-6647-A2; LLAK964000-L14100000-KC0000-P]

Alaska Native Claims Selection

AGENCY: Bureau of Land Management, Interior.

ACTION: Notice of decision approving lands for conveyance.

SUMMARY: As required by 43 CFR 2650.7(d), notice is hereby given that the Bureau of Land Management (BLM) will issue an appealable decision to the Akutan Corporation. The decision will approve the conveyance of surface estate in the lands described below pursuant to the Alaska Native Claims Settlement Act. The subsurface estate in these lands will be conveyed to the Aleut Corporation when the surface estate is conveyed to the Akutan Corporation. The lands are in the vicinity of Akutan, Alaska, and are located in:

Seward Meridian, Alaska

T. 70 S., R. 107 W.,

Secs. 17 to 21, inclusive;

Secs. 28 to 33, inclusive.

Containing 5,040 acres.

T. 70 S., R. 108 W.,

Secs. 13 and 14;

Secs. 22 to 27, inclusive.

Containing 2,790 acres.

T. 68 S., R. 109 W.,

Secs. 19 and 21;

Secs. 28 to 32, inclusive.

Containing 2,602 acres.

T. 69 S., R. 113 W.,

Secs. 2 and 8;

Secs. 11 to 14, inclusive;

Secs. 17 to 20, inclusive;

Secs. 23, 29 and 30.

Containing 3,910.13 acres.

Aggregating 14,362.13 acres.

Notice of the decision will also be published four times in the Anchorage Daily News.

DATES: The time limits for filing an appeal are:

1. Any party claiming a property interest which is adversely affected by the decision shall have until June 14, 2010 to file an appeal.

2. Parties receiving service of the decision by certified mail shall have 30 days from the date of receipt to file an appeal.

Parties who do not file an appeal in accordance with the requirements of 43 CFR part 4, subpart E, shall be deemed to have waived their rights.

ADDRESSES: A copy of the decision may be obtained from: Bureau of Land Management, Alaska State Office, 222 West Seventh Avenue, #13, Anchorage, AK 99513-7504.

FOR FURTHER INFORMATION CONTACT: The BLM by phone at 907-271-5960, or by e-mail at ak.blm.conveyance@ak.blm.gov. Persons who use a telecommunications device (TTD) may contact the BLM by calling the Federal Information Relay Service (FIRS) at 1-800-877-8339, 24 hours a day, 7 days a week.

Hillary Woods,
Land Law Examiner, Land Transfer Adjudication I Branch.

[FR Doc. 2010-11609 Filed 5-13-10; 8:45 am]

BILLING CODE 4310-JA-P